ENVIRONMENTAL PROTECTION AGENCY

[EPA-HQ-ORD-2020-0701; FRL-9764-01-ORD]

Webinar Workshop To Obtain Input on Initial Draft Materials for the Lead (Pb) Integrated Science Assessment (ISA)

AGENCY: Environmental Protection Agency (EPA).

ACTION: Notice of workshop.

SUMMARY: The Environmental Protection Agency (EPA) is preparing an Integrated Science Assessment (ISA) as part of the review of the primary and secondary National Ambient Air Quality Standards (NAAQS) for Lead (Pb). As part of the Pb review, EPA is announcing a public workshop to evaluate preliminary draft materials that will inform the development of the Pb ISA. The workshop is being organized by EPA's Center for Public Health and Environmental Assessment (CPHEA) within the Office of Research and Development and will be held by webinar and teleconference on May 26, June 7, June 22, and June 29, 2022. The workshop will be open to attendance by interested public observers on a first-come, first-served basis and participation will be by webinar and teleconference only.

DATES: The workshop will be held on May 26, June 7, June 22, and June 29, 2022.

ADDRESSES: The workshop will be held by webinar and teleconference. The website information and call-in number for the webinar are available to registered participants. To register, visit https://www.epa.gov/isa/integrated-science-assessment-isa-lead.

FOR FURTHER INFORMATION CONTACT: Please direct questions regarding workshop registration or logistics to Canden Byrd; telephone: 919-293-1660; or email: EPA-Workshops@icf.com. For technical information, contact Evan Coffman; telephone: 919-541-0567; fax: 919-541-1818; or email: Coffman.Evan@epa.gov; or Meredith Lassiter; phone: 919-541-3200; fax: 919-541-1818; or email: Lassiter.Meredith@epa.gov.

SUPPLEMENTARY INFORMATION:

I. Information About the Workshop

Section 108(a) of the Clean Air Act directs the Administrator to identify certain air pollutants which, among other things, “cause or contribute to air pollution which may reasonably be anticipated to endanger public health or welfare”; and to issue air quality criteria for them. The air quality criteria are to “accurately reflect the latest scientific knowledge useful in indicating the kind and extent of all identifiable effects on public health or welfare which may be expected from the presence of [a] pollutant in the ambient air. . . .”. Under section 109 of the Act, EPA is then to establish NAAQS for each pollutant for which EPA has issued criteria. Section 109(d)(1) of the Act subsequently requires periodic review and, if appropriate, revision of existing air quality criteria to reflect advances in scientific knowledge on the effects of the pollutant on public health or welfare. EPA is also required to review and, if appropriate, revise the NAAQS, based on the revised air quality criteria (for more information on the NAAQS review process, see https://www.epa.gov/naaqs).

CPHEA is holding a workshop to inform the Agency's evaluation of the scientific evidence for the review of Pb. The purpose of the workshop is to obtain input on the scientific content of preliminary draft materials that will inform the development of the draft ISA. Workshop sessions will include discussion of preliminary draft materials from subject areas which may include exposure assessment, toxicokinetics, toxicology, epidemiology, air quality/exposure, fate and transport, biogeochemistry, plant and animal physiology, ecotoxicology, and ecological population biology. These preliminary materials are not being released as an external draft, but will be provided to the panelists to guide discussions and inform the development of the draft ISA for Pb. This workshop is planned to help ensure that the ISA, once developed, is up-to-date and focuses on the key evidence necessary to inform the underlying scientific basis for the review of the Pb primary and secondary NAAQS. EPA is planning to release the first external review draft of the Pb ISA for review by the Clean Air Scientific Advisory Committee (CASAC) and the public in early 2023.

II. Workshop Information

Members of the public may attend the teleconference as observers. Space in the teleconference may be limited, and reservations will be accepted on a first-come, first-served basis. Registration for the workshop is available online at https://www.epa.gov/isa/integrated-science-assessment-isa-lead.

Wayne Cascio,
Director, Center for Public Health and Environmental Assessment, Office of Research and Development.

[FR Doc. 2022-09732 Filed 5-5-22; 8:45 am]

BILLING CODE 6560-50-P